ENVIRONMENTAL PROTECTION AGENCY

[ER-FRL-6613-3]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in Federal Register dated April 14, 2000 (65 FR 20157).

Draft EISs

ERP No. D-FTA-K40241-HI, Rating LO, Oahu Primary Corridor Transportation Project, Improvements from Kapolei in the west to the University of Hawaii-Manoa and Waikiki in the east, Major Investment Study, In the City and County of Honolulu, HI.

Summary: EPA has no objection to the proposed action.

ERP No. D-NOA-L91011-AK, Rating NS, Cook Inlet Beluga Whale Stock, Federal Actions Associated with the Management and Recovery, Implementation, Cook Inlet, AK.

Summary: EPA Region 10 used a screening tool to conduct a limited review of this action. Based upon this screen, EPA does not foresee having any environmental objections to the proposed project. Therefore EPA will not be conducting a detailed review.

Final EISs

ERP No. F-AFS-L65349-ID, Warm Springs Ridge Vegetation Management Project, Improve Forest Condition, Boise National Forest, Cascade Resource Area, Boise County, ID.

Summary: The final EIS responded to EPA's previous comments on the draft EIS. Therefore, EPA has no objection to the action as proposed.

ERP No. FS-FHW-L40198-WA, North Spokane Corridor (formerly known as the North Spokane Freeway) New Information Concerning Transportation Improvements through the City of Spokane and Spokane County and between I-90, Funding, Spokane County, WA.

Summary: EPA still has concerns regarding two issues. The FSEIS does not adequately describe relevant Best Management Practices for potential impacts to surface and groundwater resources in the area. Secondly, the EIS should contain information identifying the contents of the drums associated with the fertilizer plant located in the alignment right-of-way and describe how the drums will be disposed.

Dated: November 28, 2000.
Joseph C. Montgomery,
Director, NEPA Compliance Division, Office of Federal Activities.

[FR Doc. 00-30686 Filed 11-30-00; 8:45 am]

BILLING CODE 6560-50-U